DEPARTMENT OF HEALTH AND HUMAN SERVICES

Administration for Children and Families

Submission for OMB Review; Comment Request

Title: The Office of Community Services (OCS) Evaluation Initiative.

OMB No.: New Collection.

Description: This questionnaire is part of a contract that addresses evaluation strategies for three programs administered by OCS: Community Economic Development (CED), Rural Community Facilities (RF), and Job Opportunities for Low-Income Individuals (JOLI). The legislative requirement for two of these programs, i.e., the RF and CED programs, is in Title IV of the Community Opportunities, Accountability, and Training and Educational Services Act (COATS Human Services Reauthorization Act) of Oct. 27, 1998, Public Law 105-285, sec. 680(b) as amended. This legislative directive states that “The Secretary shall require all activities receiving assistance under this section to be evaluated for their effectiveness. Funding for such evaluations shall be provided as a stated percentage of the assistance or through a separate grant awarded by the Secretary specifically for the purpose of evaluation of a particular activity or group of activities.”

Under Title V, section 505, of the Family Support Act of 1988, Public Law 100-485, sec. 505(f), JOLI was initially a demonstration program that required local evaluations of each project. When JOLI was reauthorized in 1996 (Public Law 104-193—August 22, 1996), it no longer had demonstration status and evaluation requirements. As a result, a formal evaluation for the JOLI program has not been conducted since the 1996 Public Law reauthorization. At this time, OCS is interested in a formal evaluation to assess the JOLI program.

OCS has chosen to evaluate all three of these programs through a separate contract awarded by the Secretary using the Office of Management and Budget's (OMB) Performance Assessment Rating Tool (PART) in order to critically review the overall design and effectiveness of each program in its totality. The evaluation initiative contract provides the central office with the mechanism to ensure that all programs evaluated will have consistent data that is in agreement with the direction of OMB and provides the Secretary with information on program efficiency and effectiveness.

The evaluation survey's primary purpose is to document and systematically evaluate the program performance of three OCS discretionary grant programs in qualitative and quantitative terms. Thus it will assess each of the three OCS discretionary grant programs—CED, RF, and JOLI—using qualitative and quantitative evaluation methods that capture key information about program and grantee-level performance in four general areas: (1) Program purpose and design; (2) strategic planning; (3) program management; and (4) program results. The evaluation activities will build on the initial year's findings and methods, with the goal of expanding data collection and analysis to improve the validity and generalizability of findings.

The questionnaire will be administered online.

Respondents: Active CED and JOLI grantees with grants awarded from 2001 through 2004.

Annual Burden Estimates
Instrument | Number of respondents | Number of responses per respondent | Average burden hours per response | Total burden hours
Questionnaire for OCS-CED and JOLI Grantees in the U.S. | 172 | 1 | 1.5 | 258
Estimated Total Annual Burden Hours |  |  |  | 258

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: May 11, 2006.
Robert Sargis,
Reports Clearance Officer.

[FR Doc. 06-4632 Filed 5-17-06; 8:45 am]

BILLING CODE 4184-01-M